DEPARTMENT OF ENERGY

National Energy Technology Laboratory; Notice of Availability of a Financial Assistance Solicitation

AGENCY: National Energy Technology Laboratory, Department of Energy (DOE).

ACTION: Notice of availability of a financial assistance solicitation.

SUMMARY: Notice is hereby given of the intent to issue Financial Assistance Solicitation No.DE-PS26-02NT41446 entitled “Development of Technologies and Capabilities for Natural Gas Infrastructure Reliability.” This solicitation supports the Natural Gas Infrastructure Reliability product line which is part of the Department of Energy's Strategic Center for Natural Gas. This solicitation competitively seeks cost-shared applications for energy research and development (R&D) related activities that promote the efficient and sound production and use of fossil fuels (coal, natural gas, and oil). The primary purpose of the solicitation is to maintain and enhance the integrity and reliability of the natural gas transmission and distribution pipeline infrastructure. Research directed specifically towards expansion of the pipeline and major references to expansion will be discouraged.

DATES: Potential applicants are required to submit a brief, not to exceed seven pages, pre-application. The deadline for submissions of pre-applications and comprehensive applications will be identified in the solicitation. No comprehensive application will be evaluated unless a pre-application has been received and considered by the DOE. The review process for the pre-applications will be limited to a programmatic review that will result in encouraging or discouraging submission of a comprehensive application. However, discouraged applicants are not prohibited from submitting full applications. A response to the pre-applications will be communicated to the applicant within two weeks after the closing date for the pre-application. All pre-applications must be submitted through the Industry Interactive Procurement System (IIPS) system in accordance with the instructions in the solicitation. The solicitation will be available on the “Industry Interactive Procurement System” (IIPS) webpage located at http://e-center.doe.gov on or about March 1, 2002. The deadline for submission of pre-applications and comprehensive applications will be identified in the solicitation. Applicants can obtain access to the solicitation from the address above or through DOE/NETL's website at http://www.netl.doe.gov/business.

FOR FURTHER INFORMATION CONTACT: Dona G. Sheehan, U.S. Department of Energy, National Energy Technology Laboratory, P.O. Box 10940, MS 921-107, Pittsburgh, PA 15236-0940, E-mail Address: sheehan@netl.doe.gov, Telephone Number: 412/386-5918.

SUPPLEMENTARY INFORMATION: In an effort to determine the needs of the gas infrastructure industry, NETL sponsored visioning and road mapping workshops allowing representatives from natural gas organizations and industries to define and prioritize research directions necessary to maintain and expand the natural gas infrastructure. The input from these workshops has been summarized in a report entitled “Pathways for Enhanced Integrity, Reliability and Deliverability” and is publicly available on the NETL Website at http://www.netl.doe.gov/scng/publications/naturalg.pdf. Applicants are encouraged to review the information contained in this document.

To support the pipeline infrastructure, NETL is requesting R&D applications which will result in the development of technology which supports the current and future natural gas infrastructure. The solicitation will focus on research in the following areas: (1) Transmission systems, (2) distribution systems and (3) technologies which clearly affect both areas. Applicants may propose research in any area which supports the industries needs; however, the proposed work must address, but not necessarily limited to, research needs identified in the visioning and road mapping workshops. In addition to the proposed R&D effort, applicants will be required to include a discussion of the costs and benefits to ensure that the technology being developed has the potential to result in a useful commercial product which will be utilized by the natural gas infrastructure industry. DOE anticipates issuing cost-shared financial assistance (Cooperative Agreement) awards. DOE reserves the right to support or not support, with or without discussions, any or all applications received in whole or in part, and to determine how many awards will be made. Multiple awards are anticipated. Approximately $1.5 million of DOE funding is planned.

Applications submitted by, or on behalf of: (1) Another Federal agency; (2) a Federally Funded Research and Development Center sponsored by another Federal agency; or (3) a Department of Energy (DOE) Management and Operating (M&O) contractor will not be eligible for an award under this solicitation. An application may include performance of work by a DOE M&O contractor but that work must not exceed 15% of the total contract value. If a project which includes National Laboratory participation is approved for funding, DOE intends to make an award to the applicant for its portion of the effort and to provide direct funding for the National Laboratories portion of the effort as a Field Work Proposal (FWP).

DOE has determined that a minimum cost share of 25 percent of the total project cost is required for this solicitation. Details of the cost sharing requirement and the specific funding levels will be contained in the solicitation.

Once released, the solicitation will be available for downloading from the IIPS Internet page. At this Internet site you will also be able to register with IIPS, enabling you to submit an application. If you need technical assistance in registering or for any other IIPS function, call the IIPS Help Desk at (800) 683-0751 or E-mail the Help Desk personnel at IIPS_HelpDesk@e-center.doe.gov. The solicitation will only be made available in IIPS, no hard (paper) copies of the solicitation and related documents will be made available.

Prospective applicants who would like to be notified as soon as the solicitation is available should register at http://www.netl.doe.gov/business. Once you subscribe, you will receive an announcement by E-mail that the solicitation has been released to the public. Telephone requests, written requests, E-mail requests, or facsimile requests for a copy of the solicitation package will not be accepted and/or honored. Applications must be prepared and submitted in accordance with the instructions and forms contained in the solicitation. The actual solicitation document will allow for requests for explanation and/or interpretation.

Issued in Pittsburgh, PA, on February 21, 2002.
Dale A. Siciliano,
Deputy Director, Acquisition and Assistance Division.

[FR Doc. 02-5067 Filed 3-1-02; 8:45 am]

BILLING CODE 6450-01-P